EQUAL EMPLOYMENT OPPORTUNITY COMMISSION

Agency Information Collection Activities: Existing Collection

AGENCY: Equal Employment Opportunity Commission.

ACTION: Notice of information collection—proposed revision of Local Union Report (EEO-3).

SUMMARY: In accordance with the Paperwork Reduction Act (PRA), the Equal Employment Opportunity Commission (EEOC or Commission) announces that it intends to submit to the Office of Management and Budget (OMB) a request for a three-year PRA approval of revisions to the currently approved Local Union Report (EEO-3).

DATES: Written comments on this notice must be submitted on or before October 15, 2024.

ADDRESSES: You may submit comments by any of the following methods—please use only one method:

Federal eRulemaking Portal: http://www.regulations.gov. Follow the instructions on the website for submitting comments.

Mail: Comments may be submitted by mail to Raymond Windmiller, Executive Officer, Executive Secretariat, Equal Employment Opportunity Commission, 131 M Street NE, Washington, DC 20507.

Fax: Comments totaling six or fewer pages can be faxed to (202) 663-4114. Receipt of fax transmittals will not be acknowledged, except that the sender may request confirmation of receipt by calling the Executive Secretariat staff at (202) 921-2815 (voice) or (800) 669-6820 (TTY).

Instructions: All comments received must include the agency name and docket number. Comments will be posted without change to http://www.regulations.gov, including any personal information provided. However, the EEOC reserves the right to refrain from posting libelous or otherwise inappropriate comments, including those that contain obscene, indecent, or profane language; that contain threats or defamatory statements; that contain hate speech directed at race, color, religion, sex, national origin, age, disability, or genetic information; or that promote or endorse services or products.

Copies of comments received in response to this notice are also available for review at the Commission's library by appointment only at 131 M Street NE, Suite 4NW08R, Washington, DC 20507. Members of the public may schedule an appointment by emailing OEDA@eeoc.gov.

FOR FURTHER INFORMATION CONTACT: Paul Guerino, Director, Data Development and Information Products Division, Office of Enterprise Data and Analytics (OEDA), Equal Employment Opportunity Commission, 131 M Street NE, Washington, DC 20507; (202) 921-2928 (voice), (800) 669-6820 (TTY) or email at OEDA@eeoc.gov. Requests for this notice in an alternative format should be made to the EEOC's Office of Communications and Legislative Affairs at (202) 921-3191 (voice), (800) 669-6820 (TTY), or (844) 234-5122 (ASL Video Phone).

SUPPLEMENTARY INFORMATION: Since 1967, the EEOC has required EEO-3 filers to submit workforce demographic data. Every labor organization subject to Title VII of the Civil Rights Act of 1964, as amended (Title VII) ¹ is required to file the EEO-3 report, provided it has 100 or more members at any time during the 12 months preceding the due date of the report and is a “local union” (as that term is commonly understood) or an independent or unaffiliated union. Labor organizations required to report are those which perform, in a specific jurisdiction, the functions ordinarily performed by a local union, whether or not they are so designated.

¹ 42 U.S.C. 2000e, et seq.

Pursuant to the PRA and OMB regulations found at 5 CFR 1320.8(d)(1), the Commission solicits public comment on its intent to seek a three-year approval of revisions to the currently approved EEO-3 to: (1) Evaluate whether the proposed collection of information is necessary for the proper performance of the Commission's functions, including whether the information will have practical utility; (2) Evaluate the accuracy of the Commission's estimate of the burden of the proposed collection of information, including the validity of the methodology and assumptions used; (3) Enhance the quality, utility, and clarity of the information to be collected; and (4) Minimize the burden of the collection of information on those who are to respond, including the use of appropriate automated, electronic, mechanical, or other technological collection techniques or other forms of information technology, e.g., permitting electronic submission of responses.

Based on data from the most recent EEO-3 data collection reporting year (i.e., 2022), as well as ongoing updates by the EEOC to the EEO-3 frame (i.e., filer roster or master list), the EEOC anticipates the total number of filers submitting an EEO-3 report may increase to 5,999 per biennial collection. Accordingly, the burden estimates in this Notice are based on this revised estimate of the number of filers.

Overview of Information Collection

Collection Title: Local Union Report (EEO-3).

OMB Number: 3046-0006.

Frequency of Report: Biennial.

Type of Respondent: Labor organizations with 100 or more members ² that are local unions or independent or unaffiliated unions and meet certain criteria.

² Labor organizations required to report are those which perform, in a specific jurisdiction, the functions ordinarily performed by a local union, whether or not they are so designated.

Description of Affected Public: Labor organizations with 100 or more members ³ that are local unions or independent or unaffiliated unions and meet certain criteria.

³ Labor organizations required to report are those which perform, in a specific jurisdiction, the functions ordinarily performed by a local union, whether or not they are so designated.

Reporting Hours: 8,922 per biennial collection.

Respondent Burden Hour Cost: $359,091 per biennial collection.

Federal Cost: $378,002 per biennial collection.

Number of Filers: 5,999 per biennial collection.⁴

⁴ This figure is based on the expanded frame of potentially eligible respondents and the response rate for the most recently completed EEO-3 data collection (2022 EEO-3 data collection).

Number of Responses: 5,999 per biennial collection.

Number of Forms: 1.

Form Number: EEOC Form 274.

Abstract: Section 709(c) of Title VII requires labor organizations to make and keep records relevant to the determination of whether unlawful employment practices have been or are being committed, to preserve such records, and to produce reports as the Commission prescribes by regulation or order.⁵ Pursuant to this statutory authority, the EEOC issued regulations prescribing the reporting and related record retention requirements for labor organizations.⁶ The regulations require every local union to retain the most recent report filed, to make records necessary for completion of the EEO-3 and preserve them for a year (or if a charge of discrimination is filed, relevant records must be retained until final disposition of the matter). These recordkeeping requirements are part of standard administrative practices, and as a result, the EEOC believes that any impact on burden would be negligible and nearly impossible to quantify. Additionally, the regulations require labor organizations with 100 or more members at any time during the 12 months preceding the due date of the report, and that are a “local union” (as that term is commonly understood) ⁷ or are independent or unaffiliated unions to file executed copies of the EEO-3 in conformity with the directions set forth in the form and accompanying instructions. Under this authority, such unions are required to report biennially ⁸ the number of their members and applicants for membership by sex and race or ethnicity.

⁵ 42 U.S.C. 2000e-8(c).

⁶ The EEOC's EEO-3 regulation is at 29 CFR part 1602 Subparts F and G. The EEOC is responsible for obtaining OMB's PRA approval for the EEO-3 report.

⁷ Labor organizations required to report are those which perform, in a specific jurisdiction, the functions ordinarily performed by a local union, whether or not they are so designated.

⁸ Beginning in 1986, the EEO-3 report has been collected biennially in even-numbered years. Prior to 1986, the EEO-3 report was collected annually.

Please note that on March 28, 2024, OMB published revisions, the first since 1997, to its Statistical Policy Directive No. 15: Standards for Maintaining, Collecting, and Presenting Federal Data on Race and Ethnicity.” See https://spd15revision.gov/. The revisions include, for example, using a single combined race and ethnicity question and adding Middle Eastern or North African (MENA) as a new minimum reporting category. Federal agencies, including the EEOC, are required to bring their data collections into compliance with these standards by March 28, 2029. Because the EEOC's current EEO-3 PRA clearance expires January 31, 2025, the agency is not proposing updates to its collection of race and ethnicity data under this Notice in order to provide filers with sufficient notice of the revised standards and to give the EEOC sufficient time to implement the revisions across its EEO collections.

These data are currently collected electronically by the EEOC through a web-based data collection application (i.e., portal) referred to as the EEO-3 Online Filing System (OFS).⁹ Filers must submit their data electronically to the web-based portal. The individual EEO-3 reports are confidential.¹⁰ EEO-3 data are used by the EEOC to investigate charges of employment discrimination against local unions and to publish periodic reports on workforce demographics.¹¹

⁹ EEO-3 filers may access the EEO-3 OFS through the EEOC's dedicated EEO-3 website at www.eeocdata.org/eeo3.

¹⁰ All reports and any information from individual reports are subject to the confidentiality provisions of Section 709(e) of Title VII of the Civil Rights Act of 1964, 42 U.S.C. 2000e-8(e), as amended (Title VII) and may not be made public by the EEOC prior to the institution of any proceeding under Title VII involving the EEO-3 data. Any EEOC employee who violates this prohibition may be found guilty of a criminal misdemeanor and could be fined or imprisoned. The confidentiality requirements allow the EEOC to publish only aggregated data, and only in a manner that does not identify any particular filer or reveal any individual member's personal information. With respect to other federal agencies with a legitimate law enforcement purpose, the EEOC gives access to information collected under Title VII only if the agencies agree in writing to comply with the confidentiality provisions of Title VII. In addition, section 709(d) (42 U.S.C. 2000e-8(d) provides that the EEOC shall furnish upon request and without cost to state or local civil rights agencies information about employers in their jurisdiction on the condition that they not make it public prior to starting a proceeding under state or local law involving such information. The EEOC shares EEO-3 data with Fair Employment Practices Agencies (FEPAs) pursuant to Worksharing Agreements that impose obligations on the contracted FEPA with respect to confidentiality, privacy, and data security. On a case-by-case basis, the EEOC may share EEO-3 data with a FEPA that does not have a Worksharing Agreement, but only if that FEPA agrees to comply with confidentiality, privacy, and data security obligations similar to those imposed on FEPAs with Worksharing Agreements.

¹¹ Any reports the EEOC publishes based on EEO-3 data include only aggregated EEO-3 data that protect the confidentiality of each union's information, as well as the privacy of each member's personal information.

Burden Statement: The EEOC's Office of Enterprise Data and Analytics (OEDA) administers the agency's data collections, including the EEO-3. Since OEDA's creation in 2018, the EEOC has undertaken several efforts to modernize the agency's data collections and improve the quality of data collected. OEDA also has streamlined functions, such as providing additional self-service options, resource materials, and an online support message center.

As part of these ongoing modernization efforts, and in response to a recent GAO report ¹² which recommended that the EEOC improve its approach to routinely identify local unions required to file the EEO-3 report, OEDA has undertaken measures to enhance the agency's EEO-3 data frame of potentially eligible filers. Additionally, OEDA has identified changes that make the EEO-3 filing process more user-friendly and less burdensome. By comparing the EEOC's 2022 EEO-3 frame to a list of active unions from the U.S. Department of Labor's Office of Labor Management Standards (OLMS) Online Public Disclosure Room (OPDR) database,¹³ OEDA identified more than 5,000 local unions that may be eligible to file during the next biennial data collection. With the addition of these unions to the EEO-3 frame and considering response rates during the 2022 EEO-3 data collection, OEDA now estimates 5,999 potential respondents to the agency's next EEO-3 data collection.¹⁴

¹² U.S. Government Accountability Office, “Workforce Diversity: Hispanic Workers Are Underrepresented in the Media, and More Data Are Needed for Federal Enforcement Efforts”, Government Accountability Office, Sept. 29, 2022, https://www.gao.gov/products/gao-22-104669.

¹³ The OPDR database contains information on approximately 20,000 unions in the United States. See https://olmsapps.dol.gov/olpdr/.

¹⁴ This estimate covers local unions within the 50 United States and the District of Columbia as well as the Commonwealth of Puerto Rico, the U.S. Virgin Islands, and the U.S. Possessions of American Samoa, Guam, Northern Mariana Islands, and Wake Island. Please note that 5,999 respondents may ultimately turn out to be an overestimate. Following the initial enhancement of the EEO-3 frame, collection data may yield an unknown number of ineligible filers.

The EEOC has also updated its methodology for calculating the biennial burden of the EEO-3 to better reflect the types of personnel responsible for preparing and filing these reports on behalf of their unions. Based upon job titles provided during the 2022 EEO-3 data collection by individuals completing the report within the EEO-3 OFS, the EEOC has identified four specific job categories which account for the largest amount of time spent biennially on EEO-3 reporting. These job categories include: (1) Secretaries and Administrative Assistants; (2) Administrative Services and Facilities Managers; (3) Bookkeeping, Accounting, and Auditing Clerks; and (4) Executive-Level Staff.¹⁵

¹⁵ Hourly wage rates for these four job categories were obtained from the U.S. Department of Labor's Bureau of Labor Statistics (BLS) Occupational Outlook Handbook. See https://www.bls.gov/ooh/. Please note that the actual job titles reported during the 2022 EEO-3 data collection were collapsed into these four BLS occupational categories.

Additionally, the EEO-3 OFS captures detailed information on when each filer starts and certifies their report. The EEOC used this information from the most recent EEO-3 data collection (i.e., 2022) to calculate more precise burden hour estimates.¹⁶ In table 1 below, the estimated average hour burden per report is 1.49 hours. The total estimated biennial respondent burden for all filers is 8,922 hours. The estimated average burden hour cost per report is $59.90, and the estimated total burden hour cost for all filers per biennial collection is $359,091.

¹⁶ The time estimates are based on the average time elapsed among filers who completed their reports during the same calendar day within the EEO-3 OFS.

Table 1—Projected Burden for Each EEO-3 Biennial Reporting Year (N = 5,999)
Staff job category | Percent in job category (%) | Median hourly wage rate | Hours per report | Cost per report | Total burden hours | Total burden hour cost
Secretaries and Administrative Assistants | 21.4 | $21.19 | 0.33 | $6.99 | 1,958 | $41,490
Administrative Services and Facilities Managers | 56.5 | 48.98 | 0.84 | 41.14 | 5,046 | 247,153
Bookkeeping, Accounting, and Auditing Clerks | 5.1 | 22.05 | 0.09 | 1.98 | 546 | 12,039
Executive-Level Staff | 4.4 | 48.12 | 0.06 | 2.89 | 365 | 17,564
Other ᵃ | 12.6 | 40.56 | 0.17 | 6.90 | 1,007 | 40,845
Total ᵇ |  |  | 1.49 | 59.90 | 8,922 | 359,091
ᵃ The average hourly wage rate for the “Other” category was derived by taking the weighted mean average of the hourly wage rates of the four BLS job categories listed in the above table.
ᵇ These estimates are based upon filers' use of the EEO-3 OFS to submit reports electronically because paper submissions are no longer accepted. Electronic filing remains the most efficient, accurate, and secure means of reporting for respondents required to submit EEO-3 data.

Dated: August 12, 2024.
For the Commission,
Charlotte A. Burrows,
Chair.

[FR Doc. 2024-18420 Filed 8-15-24; 8:45 am]

BILLING CODE 6570-01-P